DEPARTMENT OF TRANSPORTATION

ITS Joint Program Office; Webinar on Connected Vehicle Infrastructure Deployment Analysis Report Review; Notice of Public Meeting

AGENCY: Research and Innovative Technology Administration, U.S. Department of Transportation.

ACTION: Notice.

The U.S. Department of Transportation (USDOT) ITS Joint Program Office (ITS JPO) will host a free public webinar on June 24, 2011 at 1 p.m. (EDT) to discuss the Connected Vehicle Infrastructure Deployment Analysis Report. The webinar will provide an opportunity for stakeholders to hear about and provide feedback on the American Association of State Highway and Transportation Officials (AASHTO) Connected Vehicle Infrastructure Deployment Analysis Report developed by the AASHTO Connected Vehicle Working Group with support from USDOT. The purpose of the report is to explore infrastructure deployment approaches and potential issues for state and local transportation agencies, primarily from a state DOT perspective. The analysis does not significantly consider the needs and interests of transit and trucking stakeholders, as these communities' visions and issues are being considered elsewhere in the ITS program in conjunction with their respective stakeholder organizations.

The AASHTO Working Group is made up of representatives of eleven state agencies, along with three local transportation agencies, and one metropolitan planning organization. Automotive representatives from the Vehicle Infrastructure Integration Consortium (VIIC), private sector equipment manufacturers, and telecommunications service providers were also invited to the Deployment Plan meetings, and they actively and constructively participated in the discussions leading to this report.

The report covers connected vehicle applications of most interest to the states, current state and local programs underway, deployment readiness in the vehicle market, aftermarket devices and communications, the magnitude of effort to upgrade the nation's signal controllers with Dedicated Short Range Communications (DSRC) capabilities, and a set of deployment scenarios with corresponding strategies and actions for the state and local transportation community.

Connected Vehicle research at the USDOT is a multimodal program that involves using wireless communication between vehicles, infrastructure, and personal communications devices to improve safety, mobility, and environmental sustainability. The program is the major research initiative of the ITS JPO, which is currently working with the eight major automotive companies to develop vehicle crash warning applications using DSRC technology. In addition, the ITS JPO is working to develop a myriad of applications which will use data collected from connected vehicles that can improve safety, mobility and sustainability. There is also connected vehicle-related research in the areas of standards, data collection, certification, policy, road weather, and public transportation.

Persons planning to attend the webinar should send their full name, organization, and business e-mail address to Adam Hoops at ITS America at Ahopps@ITSA.org by June 16, 2011. Please specify the name of the webinar in the e-mail. For additional questions, please contact Adam Hoops at (202) 680-0091.

Issued in Washington, DC on the 6th day of June 2011.
John Augustine,
Managing Director, ITS Joint Program Office.

[FR Doc. 2011-14538 Filed 6-10-11; 8:45 am]

BILLING CODE 4910-HY-P